DEPARTMENT OF EDUCATION

Submission for OMB Review; Comment Request

AGENCY: Department of Education.

ACTION: Correction notice.

SUMMARY: On September 29, 2004, the Department of Education published a notice in the Federal Register (Page 58153, Column 2) for the information collection, “Targeted Teacher Deferments (Teacher Shortage Area)”. The Responses and Burden Hours are corrected to 57 Responses and 4,560 Burden Hours. The Leader, Information Management Case Services Team, Regulatory Information Management Services, Office of the Chief Information Officer, hereby issues a correction notice as required by the Paperwork Reduction Act of 1995.

Angela C. Arrington,
Information Management Case Services Team, Regulatory Information Management Services, Office of the Chief Information Officer.

[FR Doc. E4-2537 Filed 10-7-04; 8:45 am]

BILLING CODE 4000-01-P